DEPARTMENT OF TRANSPORTATION

Federal Aviation Administration

Notice of Intent To Rule on Application 03-06-C-00-MLB To Impose and Use the Revenue From a Passenger Facility Charge (PFC) at Melbourne International Airport, Melbourne, FL

AGENCY: Federal Aviation Administration (FAA), DOT.

ACTION: Notice of intent to rule on application.

SUMMARY: The FAA proposes to rule and invites public comment on the application to impose and use the revenue from a PFC at Melbourne International Airport under the provisions of the 49 U.S.C. 40117 and part 158 of the Federal Aviation Regulations (14 CFR part 158).

DATES: Comments must be received on or before December 13, 2002.

ADDRESSES: Comments on this application may be mailed or delivered in triplicate to the FAA at the following address: Federal Aviation Administration; Orlando Airports District Office; 5950 Hazeltine National Drive; Suite 400; Orlando, Florida 32822.

In addition, one copy of any comments submitted to the FAA must be mailed or delivered to Mr. James C. Johnson, Executive Director of the Melbourne Airport Authority at the following address: Melbourne International Airport; One Air Terminal Parkway, Suite 220; Melbourne, Florida 32901.

Air carriers and foreign air carriers may submit copies of written comments previously provided to the Melbourne Airport Authority under section 158.23 of part 158.

FOR FURTHER INFORMATION CONTACT: Armando L. Rovira; Orlando Airports District Office; 5950 Hazeltine National Drive; Suite 400; Orlando, Florida 32822, (407) 812-6331 x-31. The application may be reviewed in person at this same location.

SUPPLEMENTARY INFORMATION: The FAA proposes to rule and invites public comment on the application to impose and use the revenue from a PFC at Melbourne International Airport under the provisions of the 49 U.S.C. 40117 and part 158 of the Federal Aviation Regulations (14 CFR part 158).

On November 5, 2002, the FAA determined that the application to impose, use the revenue from, impose and use the revenue from PFC submitted by Melbourne Airport Authority was substantially complete within the requirements of section 158.25 of part 158. The FAA will approve or disapprove the application, in whole or in part, no later than February 26, 2003.

The following is a brief overview of the application.

Proposed charge effective date: October 1, 2003.

Proposed charge expiration date: June 1, 2018.

Level of the proposed PFC: $3.00.

Total estimated PFC revenue: $8,563,500.

Brief description of proposed project(s): Payment for Debt Service Incurred to Finance Terminal Development.

Class or classes of air carriers which the public agency has requested not be required to collect PFCs: ATCO (Air Taxi/Commercial Operators) which account for less than 1% of the total passenger enplanements at Melbourne International Airport.

Any person may inspect the application in person at the FAA office listed above under ADDRESSES and at the FAA regional Airports office located at: Southern Region Headquarters; 1701 Columbia Avenue; College Park, Georgia 30337.

In addition, any person may, upon request, inspect the application, notice and other documents germane to the application in person at the Melbourne Airport Authority.

Issued in Orlando, Florida on November 5, 2002.
W. Dean Stringer,
Manager, Orlando Airports District Office.

[FR Doc. 02-28823 Filed 11-12-02; 8:45 am]

BILLING CODE 4910-13-M